DEPARTMENT OF LABOR

Employment and Training Administration

[TA-W-37,123, et al.]

ARCO Permian, An Operating Unit of Atlantic Richfield Company, A Delaware Corporation Headquartered in Midland, Texas and Operating at Various Locations in Texas, New Mexico and Colorado; Amended Certification Regarding Eligibility To Apply for Worker Adjustment Assistance

In accordance with Section 223 of the Trade Act of 1974 (19 U.S.C. 2273) the U.S. Department of Labor issued a Certification of Eligibility to Apply for Worker Adjustment Assistance on January 5, 2000 applicable to workers of ARCO Permian headquartered in Midland, Texas and operating at various locations in Texas as well as Jal, New Mexico, Eunice, New Mexico, Artesia, New Mexico and Near Gardner, Colorado. The notice was published in the Federal Register on January 14, 2000 (FR 65 2432).

At the request of the company, the Department reviewed the certification for workers of the subject firm. The workers are engaged in employment related to the exploration and production of crude oil and natural gas. Company information shows that ARCO Permian is an operating unit of Atlantic Richfield Company, a Delaware Corporation. Company information also shows that workers separated from employment at ARCO Permian had their wages reported under a separate unemployment insurance (UI) tax account for Atlantic Richfield Company, a Delaware Corporation.

Based on these findings, the Department is amending the certification to properly reflect this matter.

The intent of the Department's certification is to include all workers of ARCO Permian who were adversely affected by increased imports.

The amended notice applicable to TA-W-37,124, TA-W-37,124A, TA-W-37,124B, TA-W-37,124C, and TA-W-37,124D, is hereby issued as follows:

All workers of ARCO Permian, an operating unit of Atlantic Richfield Company, a Delaware Corporation, headquartered in Midland, Texas and operating at various locations in the state of Texas (TA-W-37,124) Jal, New Mexico (TA-W-37,124A), Eunice, New Mexico (TA-W-37,124B), Artesia, New Mexico (TA-W-37,124C) and Near Gardner, Colorado (TA-W-37,124D) who became totally or partially separated from employment on or after November 19, 1998 through January 5, 2002 are eligible to apply for adjustment assistance under Section 223 of the Trade Act of 1974.

Signed at Washington, DC this 24th day of March, 2000.
Grant D. Beale,
Program Manager, Division of Trade Adjustment Assistance.

[FR Doc. 00-8242 Filed 4-2-00; 8:45 am]

BILLING CODE 4510-30-M